ENVIRONMENTAL PROTECTION AGENCY

[OPP-34159A; FRL-6765-7]

Amendment to Reregistration Eligibility Decision for Aluminum Phosphide and Magnesium Phosphide; Notice of Availability

AGENCY Environmental Protection Agency (EPA).

ACTION Notice.

SUMMARY In the Reregistration Eligibility Decision (RED) document issued for Aluminum Phosphide and Magnesium Phosphide in December 1998, several risks of concern were identified and mitigation measures proposed to address those risks. The RED also set forth a stakeholder process for obtaining input on the proposed mitigation measures or suggestions on how other methods could be employed to reduce the risks identified in the document. On November 8, 2000, after extensive discussions with USDA and interested stakeholders, the registrants of these pesticide active ingredients (a.i.) entered into a Memorandum of Agreement (MOA) with the Agency, the purpose of which is to implement mitigation measures to reduce risks and to gather information to better characterize risks to workers and bystanders. This MOA, which amends the Aluminum Phosphide and Magnesium Phosphide RED, is summarized below.

DATES: Comments, identified by docket control number OPP-34159A, must be received on or before March 5, 2001.

ADDRESSES: Comments may be submitted by mail, electronically, or in person. Please follow the detailed instructions for each method as provided in Unit I. of the SUPPLEMENTARY INFORMATION. To ensure proper receipt by EPA, it is imperative that you identify docket control number OPP-34159A in the subject line on the first page of your response.

FOR FURTHER INFORMATION CONTACT: Mark Hartman, Special Review and Reregistration Division (7508C), Office of Pesticide Programs, Environmental Protection Agency, 1200 Pennsylvania Ave., NW., Washington, DC 20460; telephone number: (703) 308-0734; fax number: (703) 308-8041; e-mail address: hartman.mark@epa.gov.

SUPPLEMENTARY INFORMATION:

I. General Information

A. Does this Action Apply to Me?

This action is directed to the public in general. This action may, however, be of interest to persons or companies who fumigate grains and other commodities, trade organizations whose membership relies on fumigation and pest control operators who fumigate rodent burrows. Since other entities may also be interested, the Agency has not attempted to describe all the specific entities that may be affected by this action. If you have any questions regarding the applicability of this action to a particular entity, consult the person listed under FOR FURTHER INFORMATION CONTACT.

How Can I Get Additional Information, Including Copies of this Document and Other Related Documents?

1. Electronically. You may obtain electronic copies of this document, and certain other related documents, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. To access information about the reregistration status of aluminum and magnesium phosphide on the internet, go directly http://www.epa.gov/REDs, and select “aluminum phosphide” or “magnesium phosphide.”.

2. In person. The Agency has established an official record for this action under docket control number OPP-34159A. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-34159A in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3.Electronically. You may submit your comments electronically by e-mail to: “opp-docket@epa.gov,” or you can submit a computer disk as described in this unit. Do not submit any information electronically that you consider to be CBI. Avoid the use of special characters and any form of encryption. Electronic submissions will be accepted in WordPerfect 6.1/8.0 or ASCII file format. All comments in electronic form must be identified by docket control number OPP-34159A. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person identified under FOR FURTHER INFORMATION CONTACT.

What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the rule or collection activity.

7. Make sure to submit your comments by the deadline in this notice.

8. To ensure proper receipt by EPA, be sure to identify the docket control number assigned to this action in the subject line on the first page of your response. You may also provide the name, date, and Federal Register citation.

II. What Action is the Agency Taking?

EPA completed a risk assessment for the pest control fumigants aluminum and magnesium phosphide in September 1998. These materials release highly toxic phosphine gas when they react with the moisture in the atmosphere. This risk assessment identified risks of concern for applicators and occupational/residential bystanders, based on the available data and information. EPA issued a RED for Aluminum and Magnesium Phosphide in December 1998. The RED contained a series of proposed risk mitigation measures which are the focal point of an ongoing stakeholder process. These measures generally have been viewed very negatively by members of the user community who believe that implementation of such measures would be tantamount to cancellation of the chemical.

In the RED, EPA proposed risk mitigation measures which were designed to address the risks identified in the risk assessment. The Agency, recognizing the importance of phosphine to agriculture, the lack of viable alternatives, and the potential impacts of the initial set of mitigation measures on the continued use of the chemicals, committed to pursue an extensive stakeholder involvement process regarding these measures with the expressed intent to gather information on the impacts of the proposed measures and, most importantly, to explore possible alternative mitigation measures that would achieve risk reduction while maintaining the ability to continue to use phosphine and achieve the benefits derived from that use.

The Agency has conducted an intensive stakeholder involvement program to address the risk issues associated with the use of phosphine fumigants. This process began with a lengthy public comment period. Over 570 comments were received during the comment period which ended in March 1999. The main issues of contention were the 500 foot buffer zone, notification of local residents prior to fumigation, and the lowering of the exposure standard from 0.3 ppm to 0.03 ppm, each of which were proposed as mitigation measures in the RED.

Further, USDA commissioned a Phosphine Task Force in 1999, whose purpose was to work with the Agency and the agricultural community during the phosphine review process. EPA worked closely with the Phosphine Task Force to further discuss use of fumigants and related risk issues, and to explore other measures to further mitigate those risks.

In addition to the Phosphine Task Force, the Phosphine Coalition, a broad-based group consisting of over 80 registrants, fumigation companies, trade organizations and users, was formed in 1998 to address issues related to the reregistration of the phosphine fumigants. This group has worked with EPA, USDA, and the registrants on the phosphine issue. Among other activities, the Phosphine Coalition arranged fumigation demonstrations in the field where Agency personnel and the user community had productive interactions. This group has also figured prominently in technical discussions with the registrants and EPA on risk assessment and risk management issues, and has provided extensive feedback and valuable input to the Agency throughout the reregistration process and the development of the MOA. Meanwhile, EPA has also conducted outreach with state lead agencies including several presentations at SFIREG and conference calls with interested state officials.

Based in large part on input and feedback received during this stakeholder process, EPA and the registrants have entered into a Memorandum of Agreement, the purpose of which is to implement mitigation measures to meaningfully reduce risks and gather information to better characterize risks to workers and bystanders. The following is a short summary of the main points in the agreement. The text of the entire agreement can be found at http://www.epa.gov/REDs.

1. Site Fumigation Management Plans

(a) Monitoring

(b) Notification of authorities

(c) Notification of bystanders in the event of a release

2. Development of guidance for plans as part of the label language.

3. Conducting Air monitoring Studies (worker and bystander)

4. Toxicology Studies or 0.01 ppm standard

5. 2 annual incident analyses reports

6. Financial and technical support for a training and certification improvement program.

7. Prohibition of in-transit aeration

8. Stricter definition of “under the supervision of a certified applicator”

9. Enhanced notification of receivers of fumigated rail cars and other containers

10. Two-person rule for fumigations requiring entry into a structure

11. Provision of safety material to residents having burrows treated

The MOA requires that registrants submit draft interim fumigation management plan guidance to the EPA by January 1, 2001 which has been completed. Draft label revisions are due to the EPA from the registrants no later than June 1, 2001. Further, the MOA requires the submission of the first annual incident analysis report and draft protocols/feasibility studies for the collection of monitoring data to the EPA by April 1, 2001. The training and certification improvement program required in the MOA will also begin in 2001.

List of Subjects

Environmental protection, aluminum phosphide, magnesium phosphide,reregistration.

Dated:January 18, 2001.
Jack E. Housenger,
Acting Director, Special Review and Registration Division, Office of Pesticide Programs

[FR Doc. 01-2773 Filed 2-1-01; 8:45 am]

BILLING CODE 6560-50-S